DEPARTMENT OF THE INTERIOR

Fish and Wildlife Service

[FWS-R2-ES-2008-N0024; 20124-1113-0000-F2]

CT 620 Partnership Incidental Take Permit Amendment

AGENCY: Fish and Wildlife Service, Interior.

ACTION: Notice of availability and 30-day public comment period.

SUMMARY: We, the U.S. Fish and Wildlife Service, have received from CT 620 Partnership (Applicant) a request to amend an existing Incidental Take Permit (Permit), TE036095, under section 10(a)(1)(A) of the Endangered Species Act of 1973, as amended (Act). If we grant it, the amendment would update the methodology we used to calculate the mitigation fee for this permit to the methodology we presently use to calculate new fees for permits of this type. This amendment would not alter the level of authorized take.

DATES: To ensure consideration, we must receive any written comments on or before November 3, 2008.

ADDRESSES: Persons wishing to review the amendment request may obtain copies by calling or faxing the U.S. Fish and Wildlife Service Austin Office, 10711 Burnet Road, Suite 200, Austin, TX 78758 (512/490-0057, voice; 512/490-0974, fax). The amendment request will also be available for public inspection, by appointment, during normal business hours (8 a.m. to 4:30 p.m.) at the above office. During the 30-day public comment period, written comments or data should be submitted to the Field Supervisor at the above address. Please refer to TE-036095-1 when submitting comments.

FOR FURTHER INFORMATION CONTACT: Adam Zerrenner, Field Supervisor (contact information above).

Public Availability of Comments

Written comments we receive become part of the public record associated with this action. Before including your address, phone number, e-mail address, or other personal identifying information in your comment, you should be aware that your entire comment-including your personal identifying information-may be made publicly available at any time. While you can request in your comment that we withhold your personal identifying information from public review, we cannot guarantee that we will be able to do so. We will not consider anonymous comments. All submissions from organizations or businesses, and from individuals identifying themselves as representatives or officials of organizations or businesses, will be made available for public disclosure in their entirety.

Background

We issued CT 620's original incidental take permit on April 30, 2001, for a 30-year period (to last until April 30, 2031). Prior to issuing this permit, we published a notice of availability and request for comments on the proposed permit, an environmental assessment, and a habitat conservation plan in the Federal Register on December 26, 2000 (65 FR 81540). The requested amendment to the permit would not change the length or terms of the permit, other than changing the required mitigation fee to align with the Service's current policy to use the methodology adopted by the Balcones Canyonlands Preserve in July 2007. CT 620's Permit allows for incidental take of golden-cheeked warbler habitat during the construction of nine residences on portions of 50.08 acres on Hughes Park Road near RR 620, Austin, Travis County, Texas. The development will eliminate approximately 16 acres of GCWA habitat. Under the current permit, CT 620 must pay a mitigation fee of $304,000 to Travis County to be used by the Balcones Canyonlands Preserve for the purchase and preservation of 32 acres (at a cost of $9,500 per acre) of GCWA habitat before construction the property begins. CT 620 is requesting that the mitigation fee be recalculated at a fee of $5,000 per acre which was adopted in July 2007. The new mitigation fee to purchase 32 acres would be $160,000.

Section 9 of the Act prohibits the “taking” of threatened or endangered species. However, the Service, under limited circumstances, may issue permits to take threatened and endangered wildlife species incidental to, and not the purpose of, otherwise lawful activities.

We provide this notice under section 10(c) of the Act (16 U.S.C. 1531 et seq.) and its implementing regulations (50 CFR 17.22), and the National Environmental Policy Act (42 U.S.C. 4371 et seq. ) and its implementing regulations (40 CFR 1506.6).

Benjamin N. Tuggle,
Regional Director, Region 2, Albuquerque, New Mexico.

[FR Doc. E8-23242 Filed 10-1-08; 8:45 am]

BILLING CODE 4310-55-P